ENVIRONMENTAL PROTECTION AGENCY

[FRL-7807-8]

Agency Information Collection Activities: Proposed Collection; Comment Request; Request for Comments on Seven Proposed Information Collection Requests

AGENCY: Environmental Protection Agency (EPA).

ACTION: Notice.

SUMMARY: In compliance with the Paperwork Reduction Act (44 U.S.C. 3501 et seq.), this document announces that EPA is planning to submit seven continuing Information Collection Requests (ICR) to the Office of Management and Budget (OMB). Before submitting the ICRs to OMB for review and approval, EPA is soliciting comments on specific aspects of the information collections as described in the Supplementary Information section.

DATES: Comments must be submitted on or before October 29, 2004.

ADDRESSES: Comments may be submitted electronically, by mail, or through hand delivery/courier. Follow the detailed instructions as provided in section I.B. of the SUPPLEMENTARY INFORMATION.

FOR FURTHER INFORMATION CONTACT: Direct questions or requests for copies of these ICRs to: Jack Faulk, Industrial Branch, Water Permits Division, Office of Wastewater Management; tel.: (202) 564-0768, fax: (202) 564-6431; or e-mail: faulk.jack@epa.gov. Or see Section I.C of the SUPPLEMENTARY INFORMATION.

SUPPLEMENTARY INFORMATION:

I. General Information for All ICRs

An Agency may not conduct or sponsor, and a person is not required to respond to, a collection information unless it displays a currently valid OMB control number. The OMB control numbers for EPA's regulations are displayed in 40 CFR part 9.

The EPA would like to solicit comments to:

(1) Evaluate whether the proposed collection of information is necessary for the proper performance of the functions of the Agency, including whether the information will have practical utility;

(2) Evaluate the accuracy of the Agency's estimate of the burden of the proposed collection of information;

(3) Enhance the quality, utility, and clarity of the information to be collected; and

(4) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

A. How Can I Get Copies of the ICR Supporting Statement and Other Related Information?

1. Docket. EPA has established an official public docket for these ICRs under: (1) Docket ID No. OW-2004-0023 for Best Management Practices for Bleached Papergrade Kraft and Soda Subcategory and the Papergrade Sulfite Subcategory of the Pulp, Paper, and Paperboard Point Source Category, EPA ICR No. 1829.02, OMB Control No. 2040-0207; (2) Docket ID No. OW-2004-0024 for Milestones Plan for the Bleached Papergrade Kraft and Soda Subcategory of the Pulp, Paper, and Paperboard Point Source Category, EPA ICR No. 1877.02, OMB Control No. 2040-0202; (3) Docket ID No. OW-2004-0025 for Minimum Monitoring Requirements for the Pulp, Paper, and Paperboard Effluent Limitations Guidelines and Standards, EPA ICR No. 1878.01, OMB Control No. 2040-0243; (4) Docket ID No. OW-2004-0026 for Baseline Standards and Best Management Practices for the Coal Mining Point Category (40 CFR part 434)—Coal Remining Sub-category and Western Alkaline Coal Mining Subcategory, EPA ICR No. 1944.02, OMB Control No. 2040-0239; (5) Docket ID No. OW-2004-0027 for Information Collection Request for Cooling Water Intake Structures New Facility Final Rule, EPA ICR No. 1973.02, OMB Control No. 2040-0241; (6) Docket ID No. OW-2004-0028 for Certification in lieu of Chloroform Minimum Monitoring Requirements for direct and indirect discharging mills in the bleached papergrade kraft and soda subcategory of the pulp, Paper, Paperboard Point Source Category, EPA ICR No. 2015.01, OMB Control No. 2040-0242; and (7) Docket ID No. OW-2004-0029 for Pollution Prevention Compliance Alternative; Transportation Equipment Cleaning (TEC) Point Source Category (40 CFR part 442), EPA ICR No. 2018.01, OMB Control No. 2040-0235.

The official public docket consists of the documents specifically referenced in the ICRs, any public comments received, and other information related to these ICRs. Although a part of the official docket, the public docket does not include Confidential Business Information (CBI) or other information whose disclosure is restricted by statute. The official public docket is the collection of materials that is available for public viewing at the Water Docket in the EPA Docket Center, (EPA/DC) EPA West, Room B135, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the “Federal Register” listings at http://www.epa.gov/fedrgstr/.

You may use EPA Dockets at http://www.epa.gov/edocket/ to submit or view public comments, access the index listing of the contents of the official public docket, and to access those documents in the public docket that are available electronically. Once in the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in section I.A. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments in formulating a final decision. If you wish to submit CBI or information that is otherwise protected by statute, please contact the person listed in FOR FURTHER INFORMATION CONTACT. Do not use EPA Dockets or e-mail to submit CBI or information protected by statute.

1. Electronically. If you submit an electronic comment as described below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in the appropriate Docket ID No. The system is an “anonymous access” system, which means EPA will not know your identity, e-mail address, or other contact information unless you provide it in the body of your comment.

ii. E-mail. Comments may be sent by electronic mail (e-mail) to: ow-docket@epa.gov, Attention Docket ID No. (please use appropriate Docket ID number). In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in section I.B.2. These electronic submissions will be accepted in WordPerfect or ASCII file format. Avoid the use of special characters and any form of encryption.

2. By Mail. Send four copies of your comments to: Water Docket, Environmental Protection Agency, Mail code: #4101T, 1200 Pennsylvania Ave., NW., Washington, DC, 20460, Attention Docket ID No. (please use appropriate Docket ID number).

3. By Hand Delivery or Courier. Deliver your comments to: EPA Docket Center, EPA West, Room B102, 1301 Constitution Avenue, NW., Washington, DC, Attention Docket ID No. (please use appropriate Docket ID number). Such deliveries are only accepted during the Docket's normal hours of operation as identified in section I.A.1.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. List of ICRs Planned To Be Submitted

In compliance with the Paperwork Reduction Act (44 U.S.C. 3501 et seq.), this notice announces that EPA is planning to submit the following seven continuing ICR requests to OMB:

(1) Best Management Practices for Bleached Papergrade Kraft and Soda Subcategory and the Papergrade Sulfite Subcategory of the Pulp, Paper, and Paperboard Point Source Category, EPA ICR No. 1829.02, OMB Control No. 2040-0207, expiring on June 30, 2005.

(2) Milestones Plan for the Bleached Papergrade Kraft and Soda Subcategory of the Pulp, Paper, and Paperboard Point Source Category, EPA ICR No. 1877.02, OMB Control No. 2040-0202, expiring on June 30, 2005.

(3) Minimum Monitoring Requirements for the Pulp, Paper, and Paperboard Effluent Limitations Guidelines and Standards, EPA ICR No. 1878.01, OMB Control No. 2040-0243, expiring on February 28, 2005.

(4) Baseline Standards and Best Management Practices for the Coal Mining Point Category (40 CFR part 434)—Coal Remining Sub-category and Western Alkaline Coal Mining Subcategory, EPA ICR No. 1944.02, OMB Control No. 2040-0239, expiring on November 30, 2004.

(5) Information Collection Request for Cooling Water Intake Structures New Facility Final Rule, EPA ICR No. 1973.02, OMB Control No. 2040-0241, expiring on November 30, 2004.

(6) Certification in lieu of Chloroform Minimum Monitoring Requirements for direct and indirect discharging mills in the bleached papergrade kraft and soda subcategory of the Pulp, Paper, Paperboard Point Source Category, EPA ICR No. 2015.01, OMB Control No. 2040-0242, expiring on February 28, 2005.

(7) Pollution Prevention Compliance Alternative; Transportation Equipment Cleaning (TEC) Point Source Category (40 CFR part 442), EPA ICR No. 2018.01, OMB Control No. 2040-0235, expiring on October 31, 2004.

A. Contact Individual for ICRs

For all seven ICRs, please contact: Jack Faulk, Industrial Branch, Water Permits Division, Office of Wastewater Management; tel.: (202) 564-0768, fax: (202) 564-6431; or e-mail: faulk.jack@epa.gov.

B. Individual ICRs

(1) Best Management Practices for Bleached Papergrade Kraft and Soda Subcategory and the Papergrade Sulfite Subcategory of the Pulp, Paper, and Paperboard Point Source Category, EPA ICR No. 1829.02, OMB Control No. 2040-0207, expiring on June 30, 2005.

Affected Entities: Entities potentially affected by this action are those operations that chemically pulp wood fiber using kraft or soda methods to produce bleached papergrade pulp, paperboard, coarse paper, tissue paper, fine paper, and/or paperboard; those operations that chemically pulp wood fiber using papergrade sulfite methods to produce pulp and/or paper; and State and local governments which regulate discharges where such operations are located.

Abstract: The EPA has established BMP provisions as part of final amendments to 40 CFR part 430, the Pulp, Paper and Paperboard Point Source Category promulgated on April 15, 1998 (see 63 FR 18504-18751). These provisions, promulgated under the authorities of sections 304, 307, 308, 402, and 501 of the Clean Water Act, require that owners or operators of bleached papergrade kraft, soda and sulfite mills implement site-specific BMPs to prevent or otherwise contain leaks and spills of spent pulping liquors, soap and turpentine and to control intentional diversions of these materials.

EPA has determined that these BMPs are necessary because the materials controlled by these practices, if spilled or otherwise lost, can interfere with wastewater treatment operations and lead to increased discharges of toxic, nonconventional, and conventional pollutants. For further discussion of the need for BMPs, see section VI.B.7 of the preamble to the amendments to 40 CFR part 430 (see 63 FR 18561-18566).

The BMP program includes information collection requirements that are intended to help accomplish the overall purposes of the program by, for example, training personnel, see 40 CFR 430.03(c)(4), analyzing spills that occur, see 40 CFR 430.03(c)(5), identifying equipment items that might need to be upgraded or repaired, see 40 CFR 430.03(c)(2), and performing monitoring—including the operation of monitoring systems—to detect leaks, spills and intentional diversion and generally to evaluate the effectiveness of the BMPs, see 40 CFR 430.03(c)(3), (c)(10), (h), and (i). The regulations also require mills to develop and, when appropriate, amend plans specifying how the mills will implement the specified BMPs, and to certify to the permitting or pretreatment authority that they have done so in accordance with good engineering practices and the requirements of the regulation. See 40 CFR 430.03(d), (e) and (f). The purpose of those provisions is, respectively, to facilitate the implementation of BMPs on a site-specific basis and to help the regulating authorities to ensure compliance without requiring the submission of actual BMP plans. Finally, the record keeping provisions are intended to facilitate training, to signal the need for different or more vigorously implemented BMPs, and to facilitate compliance assessment. See 40 CFR 430.03(g).

EPA has structured the regulation to provide maximum flexibility to the regulated community and to minimize administrative burdens on NPDES permit and pretreatment control authorities that regulate bleached papergrade kraft and soda and papergrade sulfite mills. Although EPA does not anticipate that mills will be required to submit any confidential business information or trade secrets as part of this ICR, all data claimed as confidential business information will be handled by EPA pursuant to 40 CFR part 2.

Burden Statement: The recurring burden for a mill to periodically review and amend the BMP plan, prepare spill reports, perform additional monitoring, hold refresher training, and conduct recordkeeping and reporting is estimated to be 617, 641, and 665 hours annually per mill for simple, moderately complex, and complex mills, respectively. The total recurring cost for the estimated 41 bleached papergrade kraft and soda and 11 papergrade sulfite mills associated with the BMP requirements is estimated at $1,807,670.

The recurring burden to State NPDES and pretreatment control authorities is estimated at ten hours per year per facility for reviewing periodic (e.g., annual or semi-annual) monitoring reports and conducting compliance reviews. The total recurring costs for State NPDES and pretreatment control authorities is estimated at $32,100.

(2) Milestones Plan, Effluent Limitations Guidelines and Standards, Bleached Papergrade Kraft and Soda Subcategory, Pulp, Paper, and Paperboard Manufacturing Category, EPA ICR No. 1877.02, OMB Control No. 2040-0202, expiring June 30, 2005.

Affected Entities: Entities potentially affected by this action are those existing, direct discharging mills with operations that chemically pulp wood fiber using kraft or soda methods to produce bleached papergrade pulp, paperboard, coarse paper, tissue paper, fine paper, and/or paperboard and that choose to participate in the Voluntary Incentives Program established under 40 CFR 430.24(b).

Abstract: The EPA has established the Milestones Plan requirements for enrollment in the Voluntary Advanced Technology Incentives Program (VATIP) as part of final amendments to 40 CFR part 430, the Pulp, Paper and Paperboard Point Source Category promulgated on April 15, 1998 (see 63 FR 18504-18751). The Milestones Plan provisions, promulgated under the authorities of sections 301, 304, 306, 307, 308, 402 and 501 of the Clean Water Act, require owners or operators of bleached papergrade kraft and soda mills enrolled in the VATIP to submit information to describe each envisioned new technology component or process modification the mill intends to implement in order to achieve the VATIP Best Available Technology (BAT) limits, including a master schedule showing the sequence of implementing new technologies and process modifications and identifying critical-path relationships within the sequence.

EPA has determined that the Milestones Plan will provide valuable benchmarks for reasonable inquiries into progress being made by participating mills toward achievement of the interim and ultimate Tier limits of the VATIP and will offer the necessary flexibility to the mill and the permit writer so that the milestones selected to be incorporated into the mill's NPDES permit reflect the unique situation of the mill.

The Milestones Plan must include the following information for each new individual technology or process modification: (1) A schedule of anticipated dates for associated construction, installation, and/or process changes; (2) the anticipated dates of completion for those steps; (3) the anticipated date that the Advanced Technology process or individual component will be fully operational; (4) and the anticipated reductions in effluent quantity and improvements in effluent quality as measured at the bleach plant(for bleach plant, pulping area and evaporator condensates flow and BAT parameters other than Adsorbable Organic Halides (AOX)) and the end of the pipe (for AOX). For those technologies or process modifications that are not commercially available or demonstrated on a full-scale basis at the time of plan development, the Plan is required to include a schedule for research (if necessary), process development, and mill trials, including major milestone dates and the anticipated date the technology or process change will be available for mill implementation. The Plan must also include contingency plans in the event that any of the technologies or processes specified in the Milestones Plan need to be adjusted or alternative approaches developed to ensure that the ultimate tier limits are achieved by the deadlines specified in 40 CFR 430.24(b)(4)(ii).

EPA has structured the Plan to provide maximum flexibility to the regulated community and to minimize administrative burdens on NPDES permit authorities that regulate bleached papergrade kraft and soda mills. All data claimed as confidential business information or trade secrets submitted by the mills as part of this ICR will be handled by EPA pursuant to 40 CFR part 2.

Burden Statement: EPA estimates that 29 mills will voluntarily enroll into VATIP. The burden for a mill (which chooses to participate voluntarily in the incentives program) to prepare and submit a Milestones Plan is estimated to average approximately 120 hours per respondent. This is a one-time burden. State NPDES permitting authorities burden to review the Milestones Plans is estimated at 16 hours per respondent as an initial burden with a average recurring annual review burden of 6 hours per respondent. The total initial cost for the 29 mills anticipated to enroll in the VATIP and thus be required to develop a Milestones Plan is estimated at $480,900. The total initial burden incurred by State permitting authorities is estimated at $15,680. The total recurring burden incurred by State permitting authorities is estimated at $5,880. There is no recurring burden for mill respondents associated with this information collection.

(3) Minimum Monitoring Requirements for the Pulp, Paper, and Paperboard Effluent Limitations Guidelines and Standards, EPA ICR No. 1878.01, OMB Control No. 2040-0243, expiring on February 28, 2005.

Affected Entities: Entities potentially affected by this action are those operations that chemically pulp wood fiber using kraft or soda methods to produce bleached papergrade pulp, paperboard, coarse paper, tissue paper, fine paper, and/or paperboard; and those operations that chemically pulp wood fiber using papergrade sulfite methods to produce pulp and/or paper.

Abstract: The EPA imposed minimum monitoring requirements on bleached papergrade kraft and soda (subpart B) and papergrade sulfite (subpart E) mills under 40 CFR part 430 as part of the effluent limitations guidelines and standards promulgated on April 15, 1998 (63 FR 18504). With approval of this ICR, the permitting and pretreatment control authority must require applicable facilities subject to subparts B or E to monitor their effluent for adsorbable organic halides (AOX), 2,3,7,8-tetrachlorodibenzo-p-dioxin (TCDD), 2,3,7,8-tetrachlorodibenzofuran (TCDF), chloroform, and 12 chlorinated phenolics at specified frequencies. See 40 CFR 430.02. Under 40 CFR 122.41 (e)(4), the discharger must then report these monitoring results to the permitting or pretreatment control authority using either Discharge Monitoring Reports (DMRs) or Periodic Compliance Reports (PCRs). These additional minimum monitoring requirements and corresponding additional reporting requirements are necessary to demonstrate compliance with the effluent limitations guidelines and standards promulgated at 40 CFR part 430, subparts B and E.

Burden Statement: The annual public reporting and recordkeeping burden for this collection of information is estimated to average 392 hours per response. The estimated number of respondents is 94 and the frequency of response is not less than annually for direct dischargers and not less than twice annually for indirect dischargers. The total annual hour burden is 36,858 hours and the total annualized cost burden (non labor costs) is $6,414,910.

(4) Baseline Standards and Best Management Practices for the Coal Mining Point Category (40 CFR part 434)—Coal Remining Sub-category and Western Alkaline Coal Mining Subcategory, EPA ICR No. 1944.02, OMB Control No. 2040-0239, expiring on November 30, 2004.

Affected Entities: Entities potentially affected by this action are coal remining sites with pre-existing discharges; western alkaline coal mining sites with sediment control; and NPDES permit control authorities.

Abstract: This ICR presents estimates of the burden and costs to the regulated community (approximately 234 coal remining sites and 46 western alkaline surface coal mining sites) and NPDES permit control authorities for data collection and record keeping associated with modeling, BMP implementation, baseline monitoring, and performance monitoring requirements of the Coal Mining Point Source—Coal Remining Subcategory and Western Alkaline Coal Mining Subcategory Effluent Limitations Guidelines (40 CFR 434.70 and 434.80).

Coal remining is the mining of surface mine lands, underground mine lands, and coal refuse piles that have been previously mined and abandoned. Acid mine drainage from abandoned coal mines is a significant problem in Appalachia, with approximately 1.1 million acres of abandoned coal mine lands and over 9,700 miles of streams polluted by acid mine drainage.

During the remining process, acid-forming materials are removed with the extraction of the coal, pollution abatement BMPs are implemented under applicable regulatory requirements, and the abandoned mine land is reclaimed. During remining, many of the problems associated with abandoned mine land, such as dangerous highwalls, vertical openings, and abandoned coal refuse piles can be corrected without using public funds.

The remining regulations include a requirement that the operator implement BMPs to demonstrate the potential to improve water quality. The site-specific BMPs will be incorporated into a pollution abatement plan. Data collection and record keeping requirements under this Subcategory will include baseline determination, annual monitoring and reporting for pre-existing discharges and a description of site-specific BMPs. In most cases, EPA believes that the BMP requirements for the pollution abatement plan will be satisfied by an approved SMCRA plan.

Western alkaline coal mines include surface and underground mining operations located in the interior western United States. EPA estimates that 46 mine sites will be affected by this subcategory, representing 2% of the total number of U.S. coal mines, but accounting for ⅓ of U.S. coal production.

The subcategory establishes non-numeric limitations on the amount of sediment that can be discharged from coal mine reclamation areas. In lieu of numeric standards, the mine operator must develop a site-specific sediment control plan for surface reclamation areas identifying BMP design, construction, and maintenance specifications and expected effectiveness. The operator will be required to demonstrate, using models accepted by the regulatory authority, that implementation of the BMPs will ensure that average annual sediment levels in drainage from reclamation areas would not exceed predicted natural background levels of sediment discharges at that site. Data collection and record keeping requirements under this Subcategory will include a description of site-specific sediment control BMPs and watershed model results. EPA believes that plans developed to comply with SMCRA requirements will usually fulfill the EPA requirements for sediment control plans.

EPA does not expect that any confidential business information or trade secrets will be required from coal mining operators as part of this ICR. If information submitted in conjunction with this ICR were to contain confidential business information, the respondent has the authority to request that the information be treated as confidential business information. All data so designated will be handled by EPA pursuant to 40 CFR part 2. This information will be maintained according to procedures outlined in EPA's Security Manual Part III, Chapter 9, dated August 9, 1976. Pursuant to section 308(b) of the CWA, effluent data may not be treated as confidential.

Burden Statement: The potential number of coal remining respondents is calculated based on the approximation that 78 permits per year may be issued. The duration of this ICR is three years and therefore the potential respondents over this time frame is (78 × 3) 234. The potential number of western alkaline surface mining respondents is estimated to be 46 for this subcategory. Although there are a total of 44 authorized NPDES states, the number of state NPDES authorities estimated to be impacted by the rule is 10. The initial burden for coal mining and remining sites under the rule is estimated at 1,890 hours and $314,538 for baseline determination monitoring at coal remining sites. The annual burden for coal mining and remining sites under the rule is estimated at 3,024 hours per year and $189,302 per year for annual monitoring at coal remining sites.

The initial burden for NPDES control authorities is estimated at 9,800 hours and $310,464 for review of SMCRA remining and reclamation plans (which include BMPs) and preparation of the NPDES permit. The annual burden for NPDES control authorities is estimated at 2,340 hours per year and $74,131 per year for review of annual monitoring data at coal remining sites.

Monitoring costs apply to the Coal Remining Subcategory only. The average annual monitoring costs for all respondents under this ICR is $294,148 ($314,538/3 + $189,302).

For the Coal Remining Subcategory, the public reporting burden is estimated to average 15.6 hours per respondent per year ((1,890 hours/3 years + 3,024 hours/year) / 234 coal remining sites). This estimate includes time for collecting and submitting baseline and annual monitoring results. For the Western Alkaline Coal Mining Subcategory, there is projected to be no additional public reporting burden.

(5) Information Collection Request for Cooling Water Intake Structures New Facility Final Rule, EPA ICR No. 1973.02, OMB Control No. 2040-0241, expiring on November 30, 2004.

Affected Entities: Entities affected by this action are new facilities that are point sources (i.e. subject to a NPDES permit) that use or propose to use a cooling water intake structure (CWIS), have at least one cooling water intake structure that uses at least 25 percent (measured on an average monthly basis) of the water withdrawn for cooling purposes, and have a design intake flow greater than two million gallons per day (MGD). Generally, facilities that meet these criteria fall into two major groups: new power producing facilities and new manufacturing facilities. Power producers affected by the final rule are likely to be both utility and nonutility power producers since they typically have large cooling water requirements. The EPA identified four categories of manufacturing facilities that tend to require large amounts of cooling water: paper and allied products, chemical and allied products, petroleum and coal products, and primary metals.

Abstract: The section 316(b) New Facility Rule requires the collection of information from new facilities that use a CWIS. Section 316(b) of the CWA requires that any standard established under section 301 or 306 of the CWA and applicable to a point source must require that the location, design, construction and capacity of CWISs at that facility reflect the best technology available (BTA) for minimizing adverse environmental impact. See 66 FR 65256. Such impact occurs as a result of impingement (where fish and other aquatic life are trapped on technologies at the entrance to cooling water intake structures) and entrainment (where aquatic organisms, eggs, and larvae are taken into the cooling system, passed through the heat exchanger, and then pumped back out with the discharge from the facility). The rule establishes standard requirements applicable to the location, design, construction, and capacity of cooling water intake structures at new facilities. These requirements seek to minimize the adverse environmental impact associated with the use of CWISs.

Burden Statement: The annual average reporting and recordkeeping burden for the collection of information by facilities responding to the section 316(b) New Facility Rule is estimated to be 2,650 hours per respondent (i.e., an annual average of 37,104 hours of burden divided among an anticipated annual average of 14 facilities). The Director reporting and recordkeeping burden for the review, oversight, and administration of the rule is estimated to average 136 hours per respondent (i.e., an annual average of 3,271 hours of burden divided among an anticipated 24 States on average per year). During the first three years after rule promulgation, the information collection required by the rule involves responses from an estimated total of 18 facilities and 44 States and Territories and costs approximately $11.6 million (including operation and maintenance costs), with an annual average of 38 respondents, 40,376 burden hours, and $3.9 million per year.

(6) Certification in lieu of Chloroform Minimum Monitoring Requirements for direct and indirect discharging mills in the bleached papergrade kraft and soda subcategory of the pulp, Paper, Paperboard Point Source Category, EPA ICR No. 2015.01, OMB Control No. 2040-0242, expiring on February 28, 2005.

Affected Entities: Operations that chemically pulp wood fiber using kraft or soda methods to produce bleached papergrade pulp, paperboard, coarse paper, tissue paper, fine paper, and/or paperboard.

Abstract: The EPA imposed minimum monitoring requirements on bleached papergrade kraft and soda (subpart B) mills under 40 CFR part 430 as part of the final Cluster Rules promulgated on April 15, 1998. See 63 FR 18504. These provisions require direct and indirect discharging subpart B mills to monitor their effluent for certain pollutants, including chloroform, at specified frequencies. See 40 CFR 430.02. EPA promulgated an amendment to the Cluster Rules to allow direct and indirect discharging Subpart B mills, for a particular fiber line, to demonstrate compliance with applicable chloroform limitations and standards under 40 CFR part 430 in lieu of the minimum monitoring requirements specified in 40 CFR 430.02 by voluntarily certifying two sets of circumstances. See 67 FR 58990. First, the mill would need to certify that the fiber line(s) in question is/are not using elemental chlorine or hypochlorite as bleaching agents. Second, the mill would need to certify that the fiber line(s) in question maintain(s) certain process and operating conditions that the facility has demonstrated achieve compliance with applicable chloroform limitations.

The burden associated with these additional voluntary reporting requirements is expected to be offset by a substantial savings in burden and costs that would otherwise be incurred, pursuant to the minimum monitoring frequency and duration at 40 CFR 430.02, to comply with applicable chloroform effluent limitations and standards.

All data submitted by mills as part of the initial compliance demonstration and claimed as confidential business information would be maintained pursuant to 40 CFR part 2 when EPA is the permitting authority, and pursuant to regulations governing such information when States are the permitting authorities.

Burden Statement: The annual public reporting and recordkeeping burden for this voluntary collection of information is estimated to average six hours per response. The estimated number of respondents is 80 and the frequency of response is not less than annually for direct dischargers and not less than twice annually for indirect dischargers. The total annual hour burden is 480 hours and the total annualized cost burden (non-labor costs) is $0.

(7) Pollution Prevention Compliance Alternative; Transportation Equipment Cleaning (TEC) Point Source Category (40 CFR part 442), EPA ICR No. 2018.01, OMB Control No. 2040-0235, expiring on October 31, 2004.

Affected Entities: Entities potentially affected are indirect discharge facilities from subparts A and B (facilities that clean tank trucks, intermodal tank containers, and rail tank cars transporting chemical and petroleum cargos), that choose the pollution prevention compliance option to reduce pollutant discharges.

Abstract: EPA issued a final guideline for the TEC point source category on August 14, 2000. This final rule included a regulatory compliance option which allows certain facilities to develop a Pollutant Management Plan (PMP) in lieu of meeting numeric standards. Facilities have the option to develop this plan if it would be a more beneficial compliance alternative. The PMP is only available for PSES and PSNS in subparts A and B of the TEC regulation, representing a potential 316 facilities.

The PMP includes requirements for recordkeeping and paperwork that were not previously included in the burden estimate for the TEC industry. This ICR presents estimates of the burden hours and costs to the regulated community and pretreatment authorities for data collection and recordkeeping associated with implementing the pollution prevention compliance option.

The PMP is an effective alternative method of reducing pollutant discharges from indirect dischargers in subparts A and B (facilities that clean tank trucks, intermodal tank containers, and rail tank cars transporting chemical and petroleum cargos). The PMP contains 10 components that must be considered and addressed when developing the Plan. These components require facilities to identify and segregate incompatible waste streams which may include heels, prerinse or prestream wastewater, and spent cleaning solutions from wastewater discharged to the POTW. The PMP also requires provisions for recycling or reuse of incompatible waste streams and for minimizing the use of toxic cleaning agents. Data collection and recordkeeping requirements under the pollution prevention compliance option include preparing the PMP and maintaining records to demonstrate compliance with the procedures and provisions of the PMP. Records will be stored on site, and there are no reporting requirements.

Burden Statement: The regulated community includes approximately 316 indirect discharging facilities. EPA assumes that all regulated facilities will evaluate the alternative pollution prevention compliance option to determine whether it would be less costly than complying with numerical limits. Based on discussions with industry stakeholders and pretreatment authorities, EPA assumes that 25% of these facilities will select the pollution prevention compliance option.

For the TEC pollution prevention compliance option, the burden is estimated to average 240.3 hours per respondent per year. This estimate includes time for preparing and submitting the statement of intent, preparing and submitting the PMP, collecting information and recordkeeping, and operator training. The estimated total labor for respondents is 19,144 hours, with a total cost of $554,451.

Dated: August 20, 2004.
James A. Hanlon,
Director, Office of Wastewater Management.

[FR Doc. 04-19716 Filed 8-27-04; 8:45 am]

BILLING CODE 6560-50-P